SMALL BUSINESS ADMINISTRATION

Notice Seeking Exemption Under Section 312 of the Small Business Investment Act, Conflicts of Interest

Notice is hereby given that Grosvenor Special Ventures IV, L.P. (“Grosvenor”), 1808 Eye Street, NW., Washington, DC 20006, a Federal Licensee under the Small Business Investment Act of 1958, as amended (“the Act”), in connection with the financing of a small concern, has sought an exemption under section 312 of the Act and section 107.730, Financings which Constitute Conflicts of Interest, of the Small Business Administration (“SBA”) rules and regulations (13 CFR 107.730 (2003)). Grosvenor proposes to provide equity financing to InphoMatch, Inc. (“InphoMatch”), 4511 Singer Court, Suite 300, Chantilly, Virginia 20152. The financing is contemplated for expansion activities and working capital.

The financing is brought within the purview of section 107.730(a)(1) of the Regulations because Grosvenor Venture Partners IV (QP), LP, an Associate of Grosvenor, currently owns greater than 10 percent of InphoMatch, and therefore InphoMatch is considered an Associate of Grosvenor as defined in section 107.50 of the Regulations.

Notice is hereby given that any interested person may submit written comments on the transaction to the Associate Administrator for Investment, U.S. Small Business Administration, 409 Third Street, SW., Washington, DC 20416.

Dated: May 6, 2004.
Jeffrey D. Pierson,
Associate Administrator for Investment.

[FR Doc. 04-10763 Filed 5-11-04; 8:45 am]

BILLING CODE 8025-01-P